DEPARTMENT OF LABOR

Employment and Training Administration

[TA-W-63,000]

Chrysler LLC, Manufacturing Truck and Activity Division, Jefferson North Assembly Plant, Including On-Site Leased Workers From Technical Engineering Consultants, Inc. and, Caravan Knight Facilities Management: Detroit, MI; Amended Certification Regarding Eligibility To Apply for Worker Adjustment Assistance

In accordance with Section 223 of the Trade Act of 1974, as amended (“Act”), 19 U.S.C. 2273, the Department of Labor issued a Certification of Eligibility to Apply for Worker Adjustment Assistance and Alternative Trade Adjustment on March 28, 2008, applicable to workers of Chrysler, LLC, Manufacturing Truck and Activity Division, Jefferson North Assembly Plant, Detroit, Michigan. The notice was published in the Federal Register on April 11, 2008 (73 FR 19899). The notice was amended on October 29, 2008 include on-site leased workers from Technical Engineering Consultants, Inc. The notice was published in the Federal Register on November 7, 2008 (73 FR 66271).

At the request of the State Agency, the Department reviewed the certification for workers of the subject firm. The workers assemble Jeep Commanders and Jeep Grand Cherokees, a substantial portion of which are shipped to an affiliated plant where they are used in the assembly of automotive vehicles.

New information shows that workers leased from Caravan Knight Facilities Management LLC were employed on-site at the Detroit, Michigan location of Chrysler, LLC, Manufacturing Truck and Activity Division, Jefferson North Assembly Plant. The Department has determined that these workers were sufficiently under the control of the subject firm to be considered leased workers.

Based on these findings, the Department is amending this certification to include workers leased from Caravan Knight Facilities Management, LLC, working on-site at the Detroit, Michigan location of Chrysler, LLC, Manufacturing Truck and Activity Division, Jefferson North Assembly Plant.

The amended notice applicable to TA-W-63,000 is hereby issued as follows:

All workers of Chrysler, LLC, Manufacturing Truck and Activity Division, Jefferson North Assembly Plant, including on-site leased workers from Technical Engineering Consultants, Inc., and Caravan Knight Facilities Management LLC, Detroit, Michigan, who became totally or partially separated from employment on or after March 12, 2007, through March 28, 2010, are eligible to apply for alternative trade adjustment assistance under Section 246 of Trade Act of 1974.

Signed at Washington, DC, this 4th day of March. 2010
Richard Church,
Certifying Officer, Division of Trade Adjustment Assistance.

[FR Doc. 2010-5330 Filed 3-11-10; 8:45 am]

BILLING CODE 4510-FN-P